DEPARTMENT OF ENERGY

National Coal Council

AGENCY: Office of Fossil Energy, Department of Energy.

ACTION: Notice of open meetings.

SUMMARY: This notice announces a meeting of the National Coal Council (NCC). The Federal Advisory Committee Act requires that public notice of these meetings be announced in the Federal Register.

DATES: Wednesday, March 15, 2017, 8:15 a.m. to 12:15 p.m.

ADDRESSES: Sheraton Suites, Old Town Alexandria; 801 N. Saint Asaph St.; Alexandria, VA 22314.

FOR FURTHER INFORMATION CONTACT: Daniel Matuszak, U.S. Department of Energy, 4G-036/Forrestal Building, 1000 Independence Avenue SW., Washington, DC 20585-0001; Telephone: 202-287-6915

SUPPLEMENTARY INFORMATION:

Purpose of the Council: The National Coal Council provides advice and recommendations to the Secretary of Energy on general policy matters relating to coal and the coal industry.

Purpose of Meeting: The 2017 Spring Meeting of the National Coal Council.

Tentative Agenda:

1. Call to order and opening remarks by Mike Durham, Chair, National Coal Council

2. Remarks by U.S. Department of Energy Representative—TBD

3. Presentation by Andy Roberts. Research Director-Global Thermal Markets, Wood Mackenzie on “Opportunities for Coal in the Trump Administration”

4. Presentation by Jeff Keffer, CEO/Steve Nelson, COO, Longview Power LLC on Longview Power's State-of-the-Art Clean Coal Technology Plant

5. Presentation by Chip Bottone, President & CEO, FuelCell Energy on the ExxonMobil-FuelCell Energy Fuel Cell Carbon Capture Pilot Plant at Plant Barry

6. Presentation by David Denton, Senior Director Business Development, RTI International on “Advanced Technologies for CO2 Capture & Utilization: Power & Industrial Applications”

7. Council Business:

a. Finance report by Finance Committee Chair Greg Workman

b. Coal Policy Committee report by Coal Policy Committee Chair Deck Slone

c. Communications Committee report by Communications Committee Chair Lisa Bradley

d. NCC Business Report by NCC CEO Janet Gellici

8. Other Business

9. Adjourn

Attendees are requested to register in advance for the meeting at: http://www.nationalcoalcouncil.org/page-NCC-Events.html.

Public Participation: The meeting is open to the public. If you would like to file a written statement with the Council, you may do so either before or after the meeting. If you would like to make oral statements regarding any item on the agenda, you should contact Daniel Matuszak, 202-287-6915 or daniel.matuszak@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC, on February 14, 2017.
LaTanya R. Butler,
Deputy Committee Management Officer.

[FR Doc. 2017-03312 Filed 2-17-17; 8:45 am]

BILLING CODE 6450-01-P